DEPARTMENT OF HEALTH AND HUMAN SERVICES

Administration for Children and Families

[Program Announcement No. OCS 2002-08]

Request for Applications Under the Office of Community Services Fiscal Year 2002 Assets for Independence Demonstration Program (IDA Program)

AGENCY: Office of Community Services (OCS), ACF, DHHS.

ACTION: Notice; correction.

SUMMARY: This notice corrects the announcement of availability of funds and request for competitive applications under the Office of Community Services' Assets for independence Demonstration Program published on April 15, 2002 (67 FR 18312).

FOR FURTHER INFORMATION CONTACT: Sheldon Shalit (202) 401-4807, sshalit@acf.dhhs.gov, or Richard Saul (202) 401-9341 rsaul@acf.dhhs.gov. Department of Health of Human Services, Administration for Children and Families, Office of Community Services, 370 L'Enfant Promenade, SW., Washington DC 20447.

Correction

In the Federal Register issued April 15, 2002 (67 FR 18312), make the following corrections:

1. On page 18333 near the bottom of the 2nd column, under A. SF-424-Application for Federal Assistance (Attachment A) remove:

“Item 11. In addition to a brief descriptive title of the project, indicate the priority area for which funds are being requested. Use the following letter designations: I—Individual projects under Priority Area 1.0”;

and replace with:

“Item 11. Enter a brief descriptive title of the project.”

2. On page 18333 at the top of the 3rd column, remove:

“Item 15a. This amount should be no greater than $1,000,000 for applications under Priority Area 1.0, and in any case no greater than $1,000,000 less any previous AFIA grants awarded to the applicant.”;

and replace with:

“Item 15a. This amount should be no greater than $1,000.000 and in no case can it be greater than the committed cash non-Fedral share.”

3. On page 18333 near the top of the 3rd column, under B. SF-4244-Budget Information—Non-Construction Progams (Attachment B), remove: “Column (e)-(g): enter that appropriate amounts in items 1. and 5. (Totals). Column e should not be more than $1,000,000 applications under Priority Area 1.0, and in no case can it be more than the committed non-Federal matching cash contributions or more than $1,000,000 less any previous AFIA grants awarded to the applicant.”;

and replace with:

“Columns (e)-(g): enter the appropriate amounts in items 1, and 5. (Totals). Column (e) should not be more than $1,000,000, and in no case can it be more than the committed cash non-Federal share.”

4. On page 18334 at the top of the 1st column, remove:

“Column 5. Enter not less than 85% of OCS grant funds for the five year budget by Class Categories under ‘other’, showing a total of not more than $1,000,000 less any previous AFIA grants awarded to the applicant.”;

and replace with:

“Column 5: enter not less than 85% of OCS grant funds for the five year budget by Class Categories under ‘other’, showing a total of not more than $1,000,000.”

Dated: April 19, 2002.
Clarence H. Carter,
Director, Office of Community Services.

[FR Doc. 02-10265 Filed 4-25-02; 8:45 am]

BILLING CODE 4184-01-M